DEPARTMENT OF THE TREASURY

Office of Thrift Supervision

Security Savings Bank, FSB; Olathe, KS; Notice of Appointment of Receiver

Notice is hereby given that, pursuant to the authority contained in section 5(d)(2) of the Home Owners' Loan Act, the Office of Thrift Supervision (OTS) has duly appointed the Federal Deposit Insurance Corporation as sole Receiver for Security Savings Bank, FSB, Olathe, Kansas (OTS No. 06084), on October 15, 2010.

Dated: October 18, 2010.
By the Office of Thrift Supervision.
Sandra E. Evans,
Federal Register Liaison.

[FR Doc. 2010-26664 Filed 10-21-10; 8:45 am]

BILLING CODE 6720-01-M